DEPARTMENT OF TRANSPORTATION

Federal Aviation Administration

14 CFR Part 39

[Docket No. 2002-NM-345-AD]

RIN 2120-AA64

Airworthiness Directives; McDonnell Douglas Model DC-9-14, DC-9-15, and DC-9-15F Airplanes; and Model DC-9-20, DC-9-30, DC-9-40, and DC-9-50 Series Airplanes

AGENCY: Federal Aviation Administration, DOT.

ACTION: Notice of proposed rulemaking (NPRM).

SUMMARY: This document proposes the adoption of a new airworthiness directive (AD) that is applicable to certain McDonnell Douglas Model DC-9-14, DC-9-15, and DC-9-15F airplanes; and Model DC-9-20, DC-9-30, DC-9-40, and DC-9-50 series airplanes. This proposal would require, among other actions, performing repetitive inspections for cracking of the counterbore of the two lower mounting holes and the lower forward edge of the outboard idler hinge fitting of the left and right wing flap at station Xw=333.148, and replacing the flap idler hinge fitting with a new or serviceable part. This action is necessary to prevent failure of the outboard idler hinge fitting of the left and right wing flap at station Xw=333.148 due to fatigue cracking, which could result in a deflected flap that may cause asymmetric lift and consequent reduced controllability and structural integrity of the airplane. This action is intended to address the identified unsafe condition.

DATES: Comments must be received by March 15, 2004.

ADDRESSES: Submit comments in triplicate to the Federal Aviation Administration (FAA), Transport Airplane Directorate, ANM-114, Attention: Rules Docket No. 2002-NM-345-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-345-AD” in the subject line and need not be submitted in triplicate. Comments sent via the Internet as attached electronic files must be formatted in Microsoft Word 97 or 2000 or ASCII text.

The service information referenced in the proposed rule may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Wahib Mina, Aerospace Engineer, Airframe Branch, ANM-120L, FAA, Los Angeles Aircraft Certification Office, 3960 Paramount Boulevard, Lakewood, California 90712-4137; telephone (562) 627-5324; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-345-AD.” The postcard will be date stamped and returned to the commenter.

Availability of NPRMs

Any person may obtain a copy of this NPRM by submitting a request to the FAA, Transport Airplane Directorate, ANM-114, Attention: Rules Docket No. 2002-NM-345-AD, 1601 Lind Avenue, SW., Renton, Washington 98055-4056.

Discussion

The FAA has received a report from the manufacturer indicating that it is necessary to repetitively inspect for cracking of the outboard idler hinge fitting of the left and right wing flap at station Xw=333.148 on certain McDonnell Douglas Model DC-9-14, DC-9-15, and DC-9-15F airplanes; and Model DC-9-20, DC-9-30, DC-9-40, and DC-9-50 series airplanes. The original safe life limit (SLL) of the flap idler hinge fitting was 50,000 landing cycles. The SLL was increased to 80,500 landing cycles and was incorporated in the Safe Life Limit Report, MDC-J0005. When the increase was made, an inspection requirement was established to ensure that a fatigue crack in the flap idler hinge fitting would not remain undetected. However, the inspection was never implemented. This condition, if not corrected, could result in failure of the outboard idler hinge fitting of the left and right wing flap at station Xw=333.148 due to fatigue cracking, which could result in a deflected flap that may cause asymmetric lift and consequent reduced controllability and structural integrity of the airplane.

Explanation of Relevant Service Information

The FAA has reviewed and approved Boeing Service Bulletin DC9-57-225, dated December 10, 2002, which describes the following procedures:

1. Performing repetitive high frequency eddy current inspections for cracking of the counterbore of the two lower mounting holes and the lower forward edge of the outboard idler hinge fitting of the left and right wing flap at station Xw=333.148; and

2. Replacing the flap idler hinge fitting with a new part.

Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as described below.

Differences Between Proposed Rule and Service Bulletin

Although Boeing Service Bulletin DC9-57-225, dated December 10, 2002, describes procedures for reporting inspection findings to the airplane manufacturer, this proposed AD would not require that action.

Cost Impact

There are approximately 708 airplanes of the affected design in the worldwide fleet. The FAA estimates that 411 airplanes of U.S. registry would be affected by this proposed AD, that it would take approximately 2 work hours per airplane to accomplish the proposed inspection, and that the average labor rate is $65 per work hour. Based on these figures, the cost impact of the proposed inspection on U.S. operators is estimated to be $53,430, or $130 per airplane, per inspection cycle.

The FAA estimates that it would take approximately 2 work hours per fitting to accomplish the proposed replacement, and that the average labor rate is $65 per work hour. The cost of required parts would be between $1,894 and $4,439 per fitting. Based on these figures, the cost impact of the proposed replacement per fitting on U.S. operators is estimated to be between $831,864 and $1,877,859, or between $2,024 and $4,569 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2002-NM-345-AD.

Applicability: Model DC-9-14, DC-9-15, DC-9-15F, DC-9-21, DC-9-31, DC-9-32, DC-9-32 (VC-9C), DC-9-32F, DC-9-33F, DC-9-34, DC-9-34F, DC-9-32F (C-9A, C-9B), DC-9-41, and DC-9-51 airplanes; as listed in Boeing Service Bulletin DC9-57-225, dated December 10, 2002; certificated in any category.

Compliance: Required as indicated, unless accomplished previously.

To prevent failure of the outboard idler hinge fitting of the left and right wing flap at station Xw=333.148 due to fatigue cracking, which could result in a deflected flap that may cause asymmetric lift and consequent reduced controllability and structural integrity of the airplane, accomplish the following:

Inspections

(a) Prior to the accumulation of 40,000 total landing cycles on the outboard idler hinge fitting of the left and right wing flap at station Xw=333.148, or within 8,000 landing cycles on the fitting after the effective date of this AD, whichever occurs later: Do high frequency eddy current (HFEC) inspections for cracking of the counterbore of the two lower mounting holes and the lower forward edge of the flap idler hinge fitting at station Xw=333.148, per the Accomplishment Instructions of Boeing Service Bulletin DC9-57-225, dated December 10, 2002. Although the service bulletin specifies to report inspection findings to the airplane manufacturer, this AD does not include such a requirement.

Condition 1: No Crack Is Found

(b) If no crack is found during any inspection required by paragraph (a) of this AD, prior to further flight, install a new nut, plain washer, and pre-load indicating (PLI) washer per the Accomplishment Instructions of Boeing Service Bulletin DC9-57-225, dated December 10, 2002. Repeat the inspections required by paragraph (a) of this AD thereafter at intervals not to exceed 1,000 landings on the fitting until the replacement required by paragraph (e) of this AD is done.

Condition 2: Crack Is Found

(c) If any crack is found during any inspection required by this AD: Before further flight, replace the cracked flap idler hinge fitting with a new or serviceable fitting having a part number identified under the “New Part Number” column of the applicable table shown in paragraph 2.C.1. of the Material Information section of Boeing Service Bulletin DC9-57-225, dated December 10, 2002. Do the replacement per the Accomplishment Instructions of the service bulletin.

Reinstatement of Inspections

(d) Prior to the accumulation of 40,000 total landing cycles on any new or serviceable fitting, do the HFEC inspections required by paragraph (a) of this AD. Repeat the HFEC inspections thereafter at intervals not to exceed 1,000 landing cycles on the fitting until the replacement required by paragraph (e) of this AD is done.

Replacement

(e) Prior to the accumulation of 80,500 total landing cycles on the flap idler hinge fitting, replace the fitting with a new or serviceable fitting having a part number identified under the “New Part Number” column of the applicable table shown in paragraph 2.C.1. of the Material Information section of Boeing Service Bulletin DC9-57-225, dated December 10, 2002. Do the replacement per the Accomplishment Instructions of the service bulletin. Repeat the replacement thereafter at intervals not to exceed 80,500 total landing cycles on the fitting.

Alternative Methods of Compliance

(f) In accordance with 14 CFR 39.19, the Manager, Los Angeles Aircraft Certification Office (ACO), FAA, is authorized to approve alternative methods of compliance (AMOCs) for this AD.

Issued in Renton, Washington, on January 20, 2004.
Kalene C. Yanamura,
Acting Manager, Transport Airplane Directorate, Aircraft Certification Service.

[FR Doc. 04-1912 Filed 1-28-04; 8:45 am]

BILLING CODE 4910-13-P